DEPARTMENT OF DEFENSE

Office of the Secretary

[Docket ID DOD-2009-OS-0017]

Privacy Act of 1974; System of Records

AGENCY: National Security Agency/Central Security Service, DoD.

ACTION: Notice to amend system of records.

SUMMARY: The National Security Agency/Central Security Service is proposing to amend an exempt system of records to its existing inventory of record systems subject to the Privacy Act of 1974, (5 U.S.C. 552a), as amended.

DATES: This proposed action would be effective without further notice on March 12, 2009 unless comments are received which result in a contrary determination.

ADDRESSES: Send comments to the National Security Agency/Central Security Service, Office of Policy, 9800 Savage Road, Suite 6248, Ft. George G. Meade, MD 20755-6248.

FOR FURTHER INFORMATION CONTACT: Ms. Anne Hill at (301) 688-6527.

SUPPLEMENTARY INFORMATION: The National Security Agency's record system notices for records systems subject to the Privacy Act of 1974 (5 U.S.C. 552a), as amended, have been published in the Federal Register and are available from the address above.

The specific changes to the record system being amended are set forth below followed by the notice, as amended, published in its entirety. The proposed amendment is within the purview of subsection (r) of the Privacy Act of 1974, (5 U.S.C. 552a), as amended, which requires the submission of a new or altered system report.

Dated: February 4, 2009.
Morgan E. Frazier,
Alternate OSD Federal Register Liaison Officer, Department of Defense.

GNSA 06

System Name:

NSA/CSS Health, Medical and Safety Files (February 22, 1993, 58 FR 10531).

Changes:

* * * * *

Categories of Individuals in the System:

Delete entry and replace with “NSA/CSS civilian employees, military assignees, applicants, retirees, certain contract employees that are seen in the Medical Center for first-aid/urgent care treatment, or referred by Security for psychological assessment, families of employees who are nominated for PCS, building concessionaires, visitors requiring emergency treatment, blood donors, designated Health and Safety Officers.”

Categories of Records in the System:

Delete entry and replace with “Files may consist of Individual name, Social Security Number (SSN), Employee Identification Number, completed medical and psychological questionnaires, results of physical and laboratory tests, records of medical and psychological treatment, diagnostic test results (e.g., X-rays, EKGs, etc.) correspondence with the individual's medical or psychiatric provider, medical center reports, absence and attendance records, medical and psychological evaluations, child abuse reporting forms, mandatory OSHA and Federal Occupational Injury reports, various NSA/CSS and DoD forms (e.g., consent form), a list of blood donors, and a list of telecommuters.”

Authority for maintenance of the system:

Delete entry and replace with “E.O. 12196, “Occupational Safety and Health Programs for Federal Employees; 5 U.S.C. Chapter 81, Compensation for Work Inquiries; 42 U.S.C. 290dd-2, Confidentiality of Records; 20 CFR Part 10, Claims for Compensation under the Federal Employees' Compensation Act, as amended; and E.O. 9397 (SSN).”

Purpose:

Delete entry and replace with “To determine applicant eligibility for hiring, fitness for continued employability and/or access to classified information, Permanent Change of Station (PCS), deployment and/or TDY eligibility; processing of accident and compensation forms; correction of hazardous conditions; eligibility for disability retirement; maintain list of blood donors; and a list of telecommuters; participation in psychological treatment; mandatory health and safety reporting.”

Routine Uses of Records Maintained in the System, Including Categories of Users and the Purposes of Such Uses:

Add to entry “DoD” before ‘Blanket Routine Uses’ set forth at the beginning of the NSA/CSS’ compilation of systems of records notice apply.

Storage:

Delete entry and replace with “Paper in file folders and electronic storage media”.

Retrievability:

Delete entry and replace with “By name, Social Security Number (SSN) or Employee Identification Number.”

Safeguards:

Delete entry and replace with “Buildings are secured by a series of guarded pedestrian gates and checkpoints. Access to facilities is limited to security-cleared personnel and escorted visitors only. Within the facilities themselves, access to paper and computer printouts are controlled by limited-access facilities and lockable containers. Access is on a need-to-know basis. Paper records are logged and tracked for accountability. Access to electronic means is limited and controlled by computer password protection. Individual access is limited to information needed to perform official functions.”

Retention and Disposal:

Delete entry and replace with “Applicant medical files are maintained for no more than 1 year; files on military assignees are transferred to parent service upon reassignment from NSA/CSS; all other medical case files are destroyed 60 years after retirement/separation. Psychological files on applicants not denied for cause are destroyed after 5 years and those denied for cause are reviewed for retention after 25 years; files on military assignees are destroyed 30 years after the date of the last psychological evaluation; employee files are destroyed 60 years after date of earliest document in folder or 30 years after separation, whichever is later.

Decentralized System—files are either transferred with employee or assignee, or retained as appropriate then destroyed.

Records are destroyed by pulping, burning, shredding, or erasure or destruction of magnet media”.

System Manager:

Delete entry and replace with “Chief, Occupational Health, Environment & Safety Services, National Security Agency/Central Security Service, Ft. George G. Meade, MD 20755-6000.”

Notification Procedure:

Delete entry and replace with “Individuals seeking to determine whether information about themselves is contained in this system should address written inquiries to the National Security Agency/Central Security Service, Freedom of Information Act/Privacy Act Office, 9800 Savage Road, Ft. George G. Meade, MD 20755-6000.

Written inquiries should contain the individual's full name, Social Security Number (SSN) and mailing address.”

Record Access Procedures:

Delete entry and replace with “Individuals seeking access to information about themselves contained in this system should address written inquiries to the National Security Agency/Central Security Service, Freedom of Information Act/Privacy Act Office, 9800 Savage Road, Ft. George G. Meade, MD 20755-6000.

Written inquiries should contain the individual's full name, Social Security Number (SSN) and mailing address. ”

Contesting Record Procedures:

Delete entry and replace with “The NSA/CSS rules for contesting contents and appealing initial determinations are published at 32 CFR part 322 or may be obtained by written request addressed to the National Security Agency/Central Security Service, Freedom of Information Act/Privacy Act Office, 9800 Savage Road, Ft. George G. Meade, MD 20755-6000.”

* * * * *

GNSA 06

System Name:

NSA/CSS Health, Medical and Safety Files.

System Location:

Primary location: National Security Agency/Central Security Service, Fort George G. Meade, MD 20755-6000.

Decentralized segments: Each staff, line, contract and field element as appropriate.

Categories of Individuals Covered by the System:

NSA/CSS civilian employees, military assignees, applicants, retirees, certain contract employees that are seen in the Medical Center for first-aid/urgent care treatment, or referred by Security for psychological assessment, families of employees who are nominated for PCS, building concessionaires, visitors requiring emergency treatment, blood donors, designated Health and Safety Officers.

Categories of Records in the System:

Files may consist of Individual name, Social Security Number (SS), Employee Identification Number, addresses, completed medical and psychological questionnaires, results of physical and laboratory tests, records of medical and psychological treatment, diagnostic test results (e.g., X-rays, EKG's, etc.) correspondence with the individual's medical or psychiatric provider, medical center reports, absence and attendance records, medical and psychological evaluations, child abuse reporting forms, mandatory OSHA and Federal Occupational Injury reports, various NSA/CSS and DoD forms (e.g., consent form), a list of blood donors, and a list of telecommuters.

Authority for Maintenance of the System:

E.O. 12196, Occupational Safety and Health Programs for Federal Employees; 5 U.S.C. Chapter 81, Compensation for Work Inquiries; 42 U.S.C. 290dd-2, Confidentiality of Records; 20 CFR Part 10, Claims for Compensation under the Federal Employees' Compensation Act, as amended; and E.O. 9397 (SSN).

Purpose(s):

To determine applicant eligibility for hiring, fitness for continued employability and/or access to classified information, Permanent Change of Station (PCS), deployment and/or TDY eligibility; processing of accident and compensation forms; correction of hazardous conditions; eligibility for disability retirement; maintain list of blood donors; and a list of telecommuters; participation in psychological treatment; mandatory health and safety reporting.

Routine Uses of Records Maintained in the System, Including Categories of Users and the Purposes of Such Uses:

In addition to those disclosures generally permitted under 5 U.S.C. 552a(b) of the Privacy Act, these records or information contained therein may specifically be disclosed outside the DoD as a routine use pursuant to 5 U.S.C. 552a(b)(3) as follows:

To the Department of Labor in those cases involving compensation claims and to other government entities to make determinations as noted in the purpose above.

The ‘DoD Blanket Routine Uses’ set forth at the beginning of the NSA/CSS' compilation of systems of records notices apply to this system.

Policies and Practices for Storing, Retrieving, Accessing, Retaining, and Disposing of Records in the System:

Storage:

Paper in file folders and electronic storage media.

Retrievability:

By name, Social Security Number (SSN) or Employee Identification Number.

Safeguards:

Buildings are secured by a series of guarded pedestrian gates and checkpoints. Access to facilities is limited to security-cleared personnel and escorted visitors only. Within the facilities themselves, access to paper and computer printouts are controlled by limited-access facilities and lockable containers. Access is on a need-to-know basis. Paper records are logged and tracked for accountability. Access to electronic means is limited and controlled by computer password protection. Individual access is limited to information needed to perform official functions.

Retention and Disposal:

Applicant medical files are maintained for no more than 1 year; files on military assignees are transferred to parent service upon reassignment from NSA/CSS; all other medical case files are destroyed 60 years after retirement/separation. Psychological files on applicants not denied for cause are destroyed after 5 years and those denied for cause are reviewed for retention after 25 years; files on military assignees are destroyed 30 years after the date of the last psychological evaluation; employee files are destroyed 60 years after date of earliest document in folder or 30 years after separation, whichever is later.

Decentralized System—files are either transferred with employee or assignee, or retained as appropriate then destroyed.

Records are destroyed by pulping, burning, shredding, or erasure or destruction of magnet media.

System Manager(s) and Address:

Chief, Occupational Health, Environment & Safety Services, National Security Agency/Central Security Service, Ft. George G. Meade, MD 20755-6000.

Notification Procedure:

Individuals seeking to determine whether information about themselves is contained in this system should address written inquiries to the National Security Agency/Central Security Service, Freedom of Information Act/Privacy Act Office, 9800 Savage Road, Ft. George G. Meade, MD 20755-6000.

Written inquiries should contain the individual's full name, Social Security Number (SSN) and mailing address.

Record Access Procedures:

Individuals seeking access to information about themselves contained in this system should address written inquiries to the National Security Agency/Central Security Service, Freedom of Information Act/Privacy Act Office, 9800 Savage Road, Ft. George G. Meade, MD 20755-6000.

Written inquiries should contain the individual's full name, Social Security Number (SSN) and mailing address.

Contesting Record Procedures:

The NSA/CSS rules for contesting contents and appealing initial determinations are published at 32 CFR part 322 or may be obtained by written request addressed to the National Security Agency/Central Security Service, Freedom of Information Act/Privacy Act Office, 9800 Savage Road, Ft. George G. Meade, MD 20755-6000.

Record Source Categories:

Applicants, employees, assignees, official personnel folders, NSA Safety Officers and records, witnesses to accidents and injuries, medical and administrative personnel, blood donor personnel, members of employee's family with employee's permission and other sources as appropriate and required.

Exemptions Claimed for the System:

Individual records in this file may be exempt pursuant to 5 U.S.C. 552a(k)(1), (k)(4), (k)(5) and (k)(6) and may also be subject to certain special access procedures established pursuant to 5 U.S.C. 552a, subsection (f)(3).

Information specifically authorized to be classified under E.O. 12958, as implemented by DoD 5200.1-R, may be exempt pursuant to 5 U.S.C. 552a(k)(1).

Records maintained solely for statistical research or program evaluation purposes and which are not used to make decisions on the rights, benefits, or entitlement of an individual except for census records which may be disclosed under 13 U.S.C. 8, may be exempt pursuant to 5 U.S.C. 552a(k)(4).

Investigatory material compiled solely for the purpose of determining suitability, eligibility, or qualifications for federal civilian employment, military service, federal contracts, or access to classified information may be exempt pursuant to 5 U.S.C. 552a(k)(5), but only to the extent that such material would reveal the identity of a confidential source.

Testing or examination material used solely to determine individual qualifications for appointment or promotion in the federal or military service, if the disclosure would compromise the objectivity or fairness of the test or examination process may be exempt pursuant to 5 U.S.C. 552a(k)(6), if the disclosure would compromise the objectivity or fairness of the test or examination process.

An exemption rule for this record system has been promulgated according to the requirements of 5 U.S.C. 553(b)(1), (2), and (3), (c) and (e) and published in 32 CFR part 322. For additional information contact the system manager.

[FR Doc. E9-2785 Filed 2-9-09; 8:45 am]

BILLING CODE 5001-06-P